NATIONAL AERONAUTICS AND SPACE ADMINISTRATION

[Notice 00-132]

Notice of Prospective Patent License

AGENCY: National Aeronautics and Space Administration.

ACTION: Notice of prospective patent license.

SUMMARY: NASA hereby gives notice that Tektronix, Inc., of Beaverton, OR has applied for an exclusive license to practice the inventions disclosed in U.S. Patent Nos. 5,629,780 and 5,426,512 both entitled “Image Data Compression Having Minimum Perceptual Error” which are assigned to the United States of America as represented by the Administrator of the National Aeronautics and Space Administration. Written objections to the prospective grant of a license should be sent to NASA Ames Research Center.

DATES: Responses to this notice must be received by January 2, 2001.

FOR FURTHER INFORMATION CONTACT: Robert Padilla, Patent Counsel, NASA Ames Research Center, Mail Stop 202A-3, Moffett Field, CA 94035-1000, telephone (650) 604-5104.

Dated: October 26, 2000.
Edward A. Frankle,
General Counsel.

[FR Doc. 00-28002 Filed 10-31-00; 8:45 am]

BILLING CODE 7510-01-P